DEPARTMENT OF THE INTERIOR

Fish and Wildlife Service

[FWS-R1-ES-2011-N009; 10120-1112-0000-XX]

Endangered and Threatened Wildlife and Plants; Notice of Availability of Draft Recovery Plan for Phyllostegia hispida; Addendum to the Molokai Plant Cluster Recovery Plan

AGENCY: Fish and Wildlife Service, Interior.

ACTION: Notice of document availability for review and public comment.

SUMMARY: We, the U.S. Fish and Wildlife Service, announce the availability of our draft recovery plan for Phyllostegia hispida under the Endangered Species Act of 1973, as amended (Act). This draft plan is an addendum to the recovery plan for the Molokai Plant Cluster published in September of 1996. This plant species is endemic to the island of Molokai, Hawaii. We request review and comment on our plan from local, State, and Federal agencies and the public. We will also accept any new information on the species' status throughout its range.

DATES: We must receive written comments on or before August 1, 2011. However, we will accept information about any species at any time.

ADDRESSES: An electronic copy of the draft recovery plan is available at our Web site at http://endangered.fws.gov/recovery/index.html#plans. Alternatively, copies of the recovery plan are available from the U.S. Fish and Wildlife Service, Pacific Islands Fish and Wildlife Office, 300 Ala Moana Boulevard, Room 3-122, Box 50088, Honolulu, HI 96850 (phone: 808-792-9400). If you wish to comment on the plan, you may submit your comments in writing by any one of the following methods:

• U.S. mail: Field Supervisor, at the above address;

• Hand-delivery: Pacific Islands Fish and Wildlife Office at the above address; or

• Fax: (808)-792-9580

For additional information about submitting comments, see the “Request for Public Comments” section below.

FOR FURTHER INFORMATION CONTACT: Jeff Newman, Deputy Field Supervisor, at the above Honolulu address.

SUPPLEMENTARY INFORMATION:

Background

Recovery of endangered or threatened animals and plants to the point where they are again secure, self-sustaining members of their ecosystems is a primary goal of our endangered species program and the Act (16 U.S.C. 1531 et seq.). Recovery means improvement of the status of listed species to the point at which listing is no longer appropriate under the criteria set out in section 4(a)(1) of the Act. The Act requires the development of recovery plans for listed species, unless such a plan would not promote the conservation of a particular species.

Species History

We listed Phyllostegia hispida as an endangered species without critical habitat under the Act on March 17, 2009 (74 FR 11319).

Phyllostegia hispida is found only on the island of Molokai. Currently there are 20 wild, mature plants and an unknown number of seedlings nearby, and fewer than 300 outplanted individuals. In addition, there are four small naturally occurring populations—containing one to six seedlings each—that are not located next to mature, parent plants. No known population is entirely protected from the numerous factors threatening the species' recovery, and the species is endangered throughout its range. P. hispida is typically found in wet Metrosideros polymorpha (ohia)—dominated forest, occurring between 1,112 and 1,280 meters (3,650 and 4,200 feet) elevation.

The greatest threats to all known populations are habitat degradation and predation by feral pigs (Sus scrofa); competition with invasive introduced plants; and the negative demographic and genetic consequences of extremely small population size, as well as the consequent vulnerability to extinction through deterministic or stochastic (chance) events. Unidentified caterpillar species may also be a threat to this species.

Recovery Plan Goals

The objective of a recovery plan is to provide a framework for the recovery of a species so that protection under the Act is no longer necessary. A recovery plan includes scientific information about the species and provides criteria and actions necessary for us to be able to downlist or delist the species. Recovery plans help guide our recovery efforts by describing actions we consider necessary for the species' conservation, and by estimating time and costs for implementing needed recovery measures.

Needed conservation and recovery activities for Phyllostigia hispida include protection, management, and increasing the size of all known wild populations. Continuing survey efforts will focus on identifying any additional populations that may exist but are currently unknown. In order to reduce the potential for extinction due to the catastrophic loss of the small population on a single island, recovery actions will likely require increasing the area occupied by the existing population where space and habitat allow, as well as establishing new populations within the estimated historical range of the species. Threats such as habitat degradation and predation by feral pigs and competition with invasive introduced plants must be sufficiently controlled to allow for this population expansion. The effective management and reintroduction of P. hispida will require gaining further knowledge about the life history of the species and the functioning of the ecosystem on which it depends. Therefore, research and monitoring are key components of the recovery strategy. The habitat must be managed for the long-term recovery of P. hispida in sufficiently large and self-sustaining populations.

The overall objective of this draft addendum to the Molokai recovery plan is to ensure Phyllostegia hispida's long-term conservation and to conduct research necessary to refine recovery criteria so that the species can be downlisted and eventually delisted. Current recovery criteria include: (1) A total of at least 8 populations should be documented on Molokai. Each of these populations must be naturally reproducing, and stable or increasing in number, and threats must be managed so that a minimum of 300 mature individuals are maintained per population. Each population should persist at this level for a minimum of 5 consecutive years. (2) Management plans for each site will be evaluated on a regular basis, and updated to include monitoring to detect demographic or new environmental threats to P. hispida. (3) All of the populations that meet criterion 1 above shall be fenced and protected from ungulates, with agreements from conservation partners to maintain those protections in perpetuity. The agreements will also include provisions for invasive introduced plant removal, as appropriate, and adaptive management plans to address herbivory and habitat degradation by feral pigs and caterpillars and other unforeseeable threats. In addition, the agreements will include provisions for maximizing native plant biodiversity in these areas.

As the species meets reclassification and recovery criteria, we will review the species' status and consider the species for reclassification or removal from the Federal List of Endangered and Threatened Wildlife and Plants.

Request for Public Comments

Section 4(f) of the Act requires us to provide public notice and an opportunity for public review and comment during recovery plan development. It is also our policy to request peer review of recovery plans (July 1, 1994; 59 FR 34270). In an appendix to the approved recovery plan, we will summarize and respond to the issues raised by the public and peer reviewers. Substantive comments may or may not result in changes to the recovery plan; comments regarding recovery plan implementation will be forwarded as appropriate to Federal or other entities so that they can be taken into account during the course of implementing recovery actions. Responses to individual commenters will not be provided, but we will provide a summary of how we addressed substantive comments in an appendix to the approved recovery plan.

Before we approve the plan, we will consider all comments we receive by the date specified in DATES. Methods of submitting comments are in ADDRESSES.

Public Availability of Comments

Before including your address, phone number, e-mail address, or other personal identifying information in your comment, you should be aware that your entire comment—including your personal identifying information—may be made publicly available at any time. While you can ask us in your comment to withhold your personal identifying information from public review, we cannot guarantee that we will be able to do so.

Comments and materials we receive will be available, by appointment, for public inspection during normal business hours at our office (see ADDRESSES).

Authority: We developed our draft recovery plan under the authority of section 4(f) of the Act, 16 U.S.C. 1533(f). We publish this notice under section 4(f) of the Endangered Species Act of 1973, as amended (16 U.S.C. 1531 et seq.).

Dated: January 28, 2011.
Theresa E. Rabot,
Acting Regional Director, Pacific Region.

[FR Doc. 2011-13637 Filed 6-1-11; 8:45 am]

BILLING CODE 4310-55-P